DEPARTMENT OF COMMERCE

National Oceanic and Atmospheric Administration

[RTID 0648-XE983]

Takes of Marine Mammals Incidental to Specified Activities; Taking Marine Mammals Incidental to the Hydaburg Seaplane Base Refurbishment Project in Hydaburg, Alaska

AGENCY: National Marine Fisheries Service (NMFS), National Oceanic and Atmospheric Administration (NOAA), Commerce.

ACTION: Notice; issuance of incidental harassment authorization.

SUMMARY: NMFS has received a request from the Alaska Department of Transportation and Public Facilities (DOT&PF) for the re-issuance of a previously issued incidental harassment authorization (IHA) with the only change being effective dates. The initial IHA authorized take of nine species of marine mammals by Level A and Level B harassment incidental to construction associated with the Hydaburg Seaplane Base Refurbishment Project in Hydaburg, Alaska. The project has been delayed and none of the work covered in the initial IHA has been conducted. The scope of the activities and anticipated effects remain the same, authorized take numbers are not changed, and the required mitigation, monitoring, and reporting remains the same as included in the initial IHA. NMFS is, therefore, issuing a second identical IHA to cover the incidental take analyzed and authorized in the initial IHA.

DATES: The initial IHA was effective from September 15, 2024, through September 14, 2025. This authorization is effective for one year from the date of notification by the IHA-holder, not to exceed one year from the date of issuance (July 17, 2025).

ADDRESSES: An electronic copy of the final 2024 IHA previously issued to the DOT&PF, the DOT&PF's application, and the Federal Register notices proposing and issuing the initial IHA may be obtained by visiting https://www.fisheries.noaa.gov/action/alaska-department-transportation-and-public-facilities-hydaburg-seaplane-base-refurbishment. In case of problems accessing these documents, please call the contact listed below (see FOR FURTHER INFORMATION CONTACT).

FOR FURTHER INFORMATION CONTACT: Jenna Harlacher, Office of Protected Resources, NMFS, (301) 427-8401.

SUPPLEMENTARY INFORMATION:

Background

Section 101(a)(5)(A) and (D) of the Marine Mammal Protection Act (MMPA; 16 U.S.C. 1361 et seq.) directs the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On January 9, 2024, NMFS published final notice of our issuance of an IHA authorizing take of marine mammals incidental to the Hydaburg Seaplane Base refurbishment project (89 FR 1066, January 9, 2024). The effective dates of that IHA were September 15, 2024, through September 14, 2025. On June 3, 2025, the DOT&PF informed NMFS that the project was delayed due to scheduling constraints and funding availability. None of the work identified in the initial IHA (e.g., pile driving and removal) has occurred. The DOT&PF submitted a request that we reissue an identical IHA in order to conduct the construction work that was analyzed and authorized through the previously issued IHA. Therefore, re-issuance of the IHA is appropriate. The proposed IHA would be valid for the statutory maximum of 1 year from the date of effectiveness, and will become effective upon written notification from the applicant to NMFS, but not beginning later than 1 year from the date of issuance or extending beyond 2 years from the date of issuance.

Summary of Specified Activity and Anticipated Impacts

The planned activities (including mitigation, monitoring, and reporting), authorized incidental take, and anticipated impacts on the affected stocks are the same as those analyzed and authorized through the previously issued IHA.

DOT&PF, in cooperation with the Federal Aviation Administration, is planning maintenance improvements to the existing Hydaburg Seaplane Base as part of the Hydaburg Seaplane Base Refurbishment Project. The existing facility has experienced deterioration in recent years, and DOT&PF has conducted several repair projects. The facility is near the end of its useful life, and replacement of the existing float structures is required to continue safe operation in the future. The in-water portion of the project would include the removal of five existing steel piles and installation of eight permanent steel piles to support replacement of the floating dock structure. Up to 10 temporary steel piles would be installed to support permanent pile installation and would be removed following completion of permanent pile installation. Activities included as part of the project with potential to affect marine mammals include vibratory removal, down-the-hole installation, and vibratory and impact installation of steel pipe piles. The location, timing, and nature of the activities, including the types of equipment planned for use, are identical those described in the initial IHA. The mitigation and monitoring are also as prescribed in the initial IHA.

Species that are expected to be taken by the planned activity include humpback whale (Megaptera novaeangliae), minke whale (Balaenoptera acutorostrata), killer whale (Orcinus orca), Pacific white-sided dolphin (Lagenorhynchus obliquidens), Dall's porpoise (Phocoenoides dalli), harbor porpoise (Phocoena phocoena), Steller sea lion (Eumetopias jubatus), harbor seal (Phoca vitulina), and northern elephant seal (Mirounga angustirostris). A description of the methods and inputs used to estimate take anticipated to occur and, ultimately, the take that was authorized is found in the previous documents referenced above. The data inputs and methods of estimating take are identical to those used in the initial IHA. NMFS has reviewed recent stock assessment reports, information on relevant unusual mortality events, and recent scientific literature, and determined that no new information affects our original analysis of impacts or take estimate under the initial IHA.

We refer to the documents related to the previously issued IHA, which include the Federal Register notice of the issuance of the initial 2024 IHA for the DOT&PF's construction work (89 FR 1066, January 9, 2024), the DOT&PF's application, the Federal Register notice of the proposed IHA (88 FR 45774, July 17, 2023), and all associated references and documents.

Determinations

The DOT&PF will conduct activities as analyzed in the initial 2024 IHA. As described above, the number of authorized takes of the same species and stocks of marine mammals are identical to the numbers that were found to meet the negligible impact and small numbers standards and authorized under the initial IHA and no new information has emerged that would change those findings. The re-issued 2025 IHA includes identical required mitigation, monitoring, and reporting measures as the initial IHA, and there is no new information suggesting that our analysis or findings should change.

Based on the information contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; and (4) the DOT&PF's activities will not have an unmitigable adverse impact on taking for subsistence purposes as no relevant subsistence uses of marine mammals are implicated by this action.

National Environmental Policy Act

To comply with the National Environmental Policy Act of 1969 (NEPA; 42 U.S.C. 4321 et seq.) and NOAA Administrative Order (NAO) 216-6A, NMFS must review our proposed action with respect to environmental consequences on the human environment.

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has preliminarily determined that the application of this categorical exclusion remains appropriate for this reissued IHA.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

There is one marine mammal species (Mexico DPS humpback whales) with confirmed occurrence in the project area that is listed as threatened under the ESA. AKRO issued a biological opinion on December 19, 2023, under section 7 of the ESA, on the issuance of an IHA to the DOT&PF under section 101(a)(5)(D) of the MMPA by the NMFS Office of Protected Resources. The biological opinion concluded that the proposed action is not likely to jeopardize the continued existence of Mexico DPS humpback whales, and this remains valid for the reissued IHA.

Authorization

NMFS has issued an IHA to the DOT&PF for in-water construction activities associated with the specified activity, effective for one year from the date of effectiveness. All previously described mitigation, monitoring, and reporting requirements from the initial 2024 IHA are incorporated.

Dated: July 18, 2025.
Shannon Bettridge,
Acting Director, Office of Protected Resources, National Marine Fisheries Service.

[FR Doc. 2025-13881 Filed 7-23-25; 8:45 am]

BILLING CODE 3510-22-P